DEPARTMENT OF COMMERCE

National Oceanic and Atmospheric Administration

RIN 0648-XE777

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a Post Council Meeting Briefing for the public via Webinar.

DATES: The meeting will be held from 6 p.m. to 9 p.m. on Wednesday, August 24, 2016.

ADDRESSES: The meeting will take place via Webinar at: https://attendee.gotowebinar.com/register/7233203590071678980.

Council address: Gulf of Mexico Fishery Management Council, 2203 N. Lois Avenue, Suite 1100, Tampa, FL 33607; telephone: (813) 348-1630.

FOR FURTHER INFORMATION CONTACT: Emily Muehlstein, Fisheries Outreach Specialist, Gulf of Mexico Fishery Management Council; emily.muehlstein@gulfcouncil.org, telephone: (813) 348-1630.

SUPPLEMENTARY INFORMATION:

Agenda

I. Welcome and Introductions

II. Review of Council actions taken during the August, 2016 Council Meeting

III. Questions and Answers

IV. Adjourn

You may register for the Post August Council Meeting Briefing Webinar at: https://attendee.gotowebinar.com/register/7233203590071678980.

After registering, you will receive a confirmation email containing information about joining the Webinar.

Authority: 16 U.S.C. 1801 et seq.

Dated: July 29, 2016.
Tracey L. Thompson,
Acting Director, Office of Sustainable Fisheries, National Marine Fisheries Service.

[FR Doc. 2016-18373 Filed 8-2-16; 8:45 am]

BILLING CODE 3510-22-P